DEPARTMENT OF TRANSPORTATION

Federal Aviation Administration

14 CFR Part 39

[Docket No. FAA-2012-0152; Directorate Identifier 2011-NM-059-AD; Amendment 39-17092; AD 2012-12-12]

RIN 2120-AA64

Airworthiness Directives; Airbus Airplanes

AGENCY: Federal Aviation Administration (FAA), Department of Transportation (DOT).

ACTION: Final rule.

SUMMARY: We are adopting a new airworthiness directive (AD) for all Airbus Model A330-200 series airplanes; Airbus Model A330-200 Freighter series airplanes; Airbus Model A330-300 series airplanes; Airbus Model A340-200 series airplanes; and Airbus Model A340-300 series airplanes. This AD was prompted by reports of sheared fasteners located on the outside skin of the forward cargo door and cracks on the frame fork ends, as well as cracks of the aft cargo door frame 64A. This AD requires performing a detailed inspection of the outer skin rivets at the frame fork ends of the forward and aft cargo door for sheared, loose, and missing rivets; repairing the outer skin rivets, if necessary; and performing repetitive inspections. We are issuing this AD to detect and correct sheared, loose, or missing fasteners on the forward and aft cargo door frame, which could result in the loss of structural integrity of the forward and aft cargo door.

DATES: This AD becomes effective July 30, 2012.

The Director of the Federal Register approved the incorporation by reference of certain publications listed in this AD as of July 30, 2012.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Vladimir Ulyanov, Aerospace Engineer, International Branch, ANM-116, Transport Airplane Directorate, FAA, 1601 Lind Avenue SW., Renton, Washington 98057-3356; telephone (425) 227-1138; fax (425) 227-1149.

SUPPLEMENTARY INFORMATION:

Discussion

We issued a notice of proposed rulemaking (NPRM) to amend 14 CFR part 39 to include an AD that would apply to the specified products. That NPRM was published in the Federal Register on February 23, 2012 (77 FR 10691). That NPRM proposed to correct an unsafe condition for the specified products. The MCAI states:

Two operators have reported cases of some sheared fasteners on the outside skin of the forward cargo door, detected during walk around checks. Further inspections revealed crack findings on the frame (FR) fork ends.

In addition, during a scheduled maintenance check, the aft cargo door frame 64A of an aeroplane has been found cracked for a length of more than 3 inches. Outer skin rivets were also found sheared. At time of findings the aeroplane had accumulated 10564 flight cycles (FC), i.e. below the 12000 FC threshold defined in DGAC [Direction Générale de l'Aviation Civile] France AD F-2001-124(B) and DGAC France AD F-2001-126(B) [which corresponds with FAA AD 2001-16-01, Amendment 39-12369 (66 FR 40874, August 6, 2001], which require a special detailed inspection of the aft cargo compartment door.

In case of cracked or ruptured (forward or aft) cargo door frame, the loads will be transferred to the remaining structural elements. Such second load path is able to sustain the loads for a limited number of flight cycles only. Rupture of two vertical frames could result in the loss of the structural integrity of the forward or aft cargo door.

For the above described reasons, this [EASA] AD requires repetitive detailed visual inspections of the aft and forward cargo doors outer skin for sheared, loose or missing rivets at all frame fork ends and the accomplishment of the applicable corrective actions [repair if necessary].

This [EASA] AD is considered to be an interim action, further actions might be required to revise/supersede the above mentioned DGAC France ADs.

This [EASA] AD is revised in order to recognize that aeroplanes on which Airbus modification 44852 has been embodied in production are not affected by the repetitive inspection requirements of this [EASA] AD on the Aft Cargo Compartment Door.

You may obtain further information by examining the MCAI in the AD docket.

Comments

We gave the public the opportunity to participate in developing this AD. We received no comments on the NPRM (77 FR 10691, February 23, 2012) or on the determination of the cost to the public.

Conclusion

We reviewed the available data and determined that air safety and the public interest require adopting the AD as proposed.

Clarification of the Repetitive Inspections

For clarification purposes, we changed the interval for the repetitive inspections in paragraph (g) of this AD to the following: “* * * at intervals not to exceed 800 flight cycles.” The repetitive interval was stated incorrectly in the NPRM (77 FR 10691, February 23, 2012) as 800 “total” flight cycles.

Costs of Compliance

We estimate that this AD will affect 55 products of U.S. registry. We also estimate that it will take about 1 work-hour per product to comply with the basic requirements of this AD. The average labor rate is $85 per work-hour. Based on these figures, we estimate the cost of this AD to the U.S. operators to be $4,675, or $85 per product.

We have received no definitive data that would enable us to provide cost estimates for the on-condition actions specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 10691, February 23, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-12-12 Airbus: Amendment 39-17092. Docket No. FAA-2012-0152; Directorate Identifier 2011-NM-059-AD.

(a) Effective Date

This airworthiness directive (AD) becomes effective July 30, 2012.

(b) Affected ADs

None.

(c) Applicability

This AD applies to Airbus Model A330-201, -202, -203, -223, -223F, -243, -243F, -301, -302, -303, -321, -322, -323, -341, -342, and -343 airplanes; and Model A340-211, -212, -213, -311, -312, and -313 airplanes; certificated in any category; all manufacturer serial numbers.

(d) Subject

Air Transport Association (ATA) of America Code 52: Doors.

(e) Reason

This AD was prompted by reports of sheared fasteners located on the outside skin of the forward cargo door and cracks on the frame fork ends, as well as cracks of the aft cargo door frame 64A. We are issuing this AD to detect and correct sheared, loose or missing fasteners on the forward and aft cargo door frame, which could result in the loss of structural integrity of the forward and aft cargo door.

(f) Compliance

You are responsible for having the actions required by this AD performed within the compliance times specified, unless the actions have already been done.

(g) Forward Cargo Compartment Door

Before the accumulation of 6,000 total flight cycles since first flight of the airplane or within 400 flight cycles after the effective date of this AD, whichever occurs later: Perform a detailed inspection of the outer skin rivets at the frame fork ends between FR20B and FR25 of the forward cargo door for sheared, loose, and missing rivets, in accordance with the instructions of Airbus All Operators Telex (AOT) A330-52A3085, dated December 20, 2010 (for Model A330-200 and A330-300 series airplanes); or Airbus AOT A340-52A4092, dated December 20, 2010 (for Model A340-200 and A340-300 series airplanes). Thereafter repeat the inspection at intervals not to exceed 800 flight cycles.

(h) Aft Cargo Compartment Door

For all airplanes, except those on which Airbus Modification 44854 or Modification 44852 has been embodied in production, or Airbus Service Bulletin A330-52-3044 or Airbus Service Bulletin A340-52-4054 has been embodied in service: Before the accumulation of 4,000 total flight cycles since first flight of the airplane, or within 400 flight cycles after the effective date of this AD, whichever occurs later, perform a detailed inspection of outer skin rivets at the frame fork ends between FR60 and FR64A of the aft cargo door for sheared, loose or missing rivets, in accordance with the instructions of Airbus AOT A330-52A3084, dated December 20, 2010 (for Model A330-200 and A330-300 series airplanes); or Airbus AOT A340-52A4091, dated December 20, 2010 (for Model A340-200 and A340-300 series airplanes). Thereafter repeat the inspection at intervals not to exceed 400 flight cycles.

(i) Corrective Action

If any sheared, loose, or missing rivets are found during any inspection required by paragraph (g) or (h) of this AD: Before further flight, repair using a method approved by the Manager, International Branch, ANM-116, FAA; or European Aviation Safety Agency (EASA) (or its delegated agent).

(j) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, Washington 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

Refer to MCAI European Aviation Safety Agency Airworthiness Directive 2011-0007R1, dated February 14, 2011, and the service information specified in paragraphs (k)(1) through (k)(4) of this AD, for related information.

(1) Airbus AOT A330-52A3085, dated December 20, 2010.

(2) Airbus AOT A340-52A4092, dated December 20, 2010.

(3) Airbus AOT A330-52A3084, dated December 20, 2010.

(4) Airbus AOT A340-52A4091, dated December 20, 2010.

(l) Material Incorporated by Reference

(1) The Director of the Federal Register approved the incorporation by reference (IBR) of the following service information under 5 U.S.C. 552(a) and 1 CFR part 51.

(2) You must use the following service information to do the actions required by this AD, as applicable, unless the AD specifies otherwise.

(i) Airbus AOT A330-52A3085, dated December 20, 2010. The document number and date are identified only on the first page of this document.

(ii) Airbus AOT A340-52A4092, dated December 20, 2010. The document number and date are identified only on the first page of this document.

(iii) Airbus AOT A330-52A3084, dated December 20, 2010. The document number and date are identified only on the first page of this document.

(iv) Airbus AOT A340-52A4091, dated December 20, 2010. The document number and date are identified only on the first page of this document.

(3) For Airbus service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com.

(4) You may review copies of the service information at the FAA, Transport Airplane Directorate, 1601 Lind Avenue SW., Renton, Washington. For information on the availability of this material at the FAA, call 425-227-1221.

(5) You may also review copies of the service information that is incorporated by reference at the National Archives and Records Administration (NARA). For information on the availability of this material at an NARA facility, call 202-741-6030, or go to http://www.archives.gov/federal_register/code_of_federal_regulations/ibr_locations.html.

Issued in Renton, Washington, on June 7, 2012.
Michael Kaszycki,
Acting Manager, Transport Airplane Directorate, Aircraft Certification Service.

[FR Doc. 2012-14730 Filed 6-22-12; 8:45 am]

BILLING CODE 4910-13-P